ENVIRONMENTAL PROTECTION AGENCY

[EPA-HQ-OAR-2011-0542; FRL-9631-4]

Notice of Data Availability Concerning Renewable Fuels Produced From Palm Oil Under the RFS Program; Extension of Comment Period

AGENCY: Environmental Protection Agency (EPA).

ACTION: Notice; extension of comment period.

SUMMARY: The U.S. Environmental Protection Agency (EPA) is announcing an extension in the public comment period for the “Notice of Data Availability Concerning Renewable Fuels Produced From Palm Oil Under the RFS Program” (the notice is herein referred to as the “palm oil NODA”). EPA published a NODA, which included a request for comment, in the Federal Register on January 27, 2012 (77 FR 4300). The public comment period was to end on February 27, 2012—30 days after publication in the Federal Register. The purpose of this document is to extend the comment period an additional 30 days until March 28, 2012. This extension of the comment period is provided to allow the public additional time to provide comment on the NODA.

DATES: Comments must be received on or before March 28, 2012.

ADDRESSES: Submit your comments, identified by Docket ID No. EPA-HQ-OAR-2011-0542, by one of the following methods:

• www.regulations.gov: Follow the on-line instructions for submitting comments.

• Email: a-and-r-docket@epa.gov.

• Mail: Air and Radiation Docket and Information Center, Environmental Protection Agency, Mailcode: 2822T, 1200 Pennsylvania Ave. NW., Washington, DC 20460.

• Hand Delivery: Air and Radiation Docket and Information Center, EPA/DC, EPA West, Room 3334, 1301 Constitution Ave. NW., Washington DC 20004. Such deliveries are only accepted during the Docket's normal hours of operation, and special arrangements should be made for deliveries of boxed information.

Instructions: Direct your comments to Docket ID No. EPA-HQ-OAR-2011-0542. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or asdinfo@epa.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket and Information Center, EPA/DC, EPA West, Room 3334, 1301 Constitution Ave. NW., Washington, DC 20004. The Public Reading Room is open from 8:30 a.m. to 4:30 p.m., Monday through Friday, excluding legal holidays. The telephone number for the Public Reading Room is (202) 566-1744, and the telephone number for the Air Docket is (202) 566-1742.

FOR FURTHER INFORMATION CONTACT: Aaron Levy, Office of Transportation and Air Quality, Transportation and Climate Division, Environmental Protection Agency, 1200 Pennsylvania Ave., NW., Washington, DC 20460 (MC: 6041A); telephone number: 202-564-2993; fax number: 202-564-1177; email address: levy.aaron@epa.gov.

SUPPLEMENTARY INFORMATION: Background: In a separate notice of data availability, EPA provided an opportunity to comment on EPA's analyses of palm oil used as a feedstock to produce biodiesel and renewable diesel under the Renewable Fuel Standard (RFS) program. EPA's analysis of palm oil-based biofuels is a supplement to the final rule published on March 26, 2010, which made changes to the RFS program (75 FR 14670). EPA's analysis of the two types of biofuel shows that biodiesel and renewable diesel produced from palm oil have estimated lifecycle greenhouse gas (GHG) emission reductions of 17% and 11%, respectively, for these biofuels compared to the statutory baseline petroleum-based diesel fuel used in the RFS program. This analysis indicates that both palm-oil-based biofuels would not qualify as meeting the minimum 20% GHG performance threshold for renewable fuel under the RFS program.

Extension of Comment Period: EPA received requests for an extension of the palm oil NODA comment period from various parties. After considering all of these comments, EPA has determined that an extension of the comment period would provide the public adequate time to provide meaningful comment on the NODA. However, this need must be balanced against our desire to finalize our analysis in a timely manner. EPA believes that an additional 30 days is an appropriate amount of time to balance these needs. Accordingly, the public comment period for the palm oil NODA is extended until March 28, 2012. EPA does not anticipate any further extension of the comment period at this time.

Dated: February 7, 2012.
Margo Tsirigotis Oge,
Director, Office of Transportation and Air Quality.

[FR Doc. 2012-3413 Filed 2-13-12; 8:45 am]

BILLING CODE 6560-50-P